DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of agency law. The actions relate to a proposed highway project, Interstate 15, from post mile 18.3 to post mile 21.0, in the City of Lake Elsinore, in the County of Riverside, State of California. Those actions grant licenses, permits, and approvals for the project.

DATES: A claim seeking judicial review of the Federal agency actions on the highway project will be barred unless the claim is filed on or before May 17, 2018. If the Federal law that authorizes judicial review of a claim provides a time period of less than 150 days for filing such claim, then that shorter time period still applies.

FOR FURTHER INFORMATION CONTACT: For Caltrans: Marie Petry, Senior Environmental Planner, California Department of Transportation, Division or Environmental Planning, 464 W. Fourth Street, 6th Floor, MS 827, San Bernardino, California 92401: or call (909) 388-1387, email marie.petry@dot.ca.gov; Alex Menor, Riverside County Transportation Commission, 4080 Lemon Street, Riverside, CA 92502, by phone at (951) 787-7970, email amenor@rctc.org. Normal business hours are from 8:00 a.m. to 4:00 p.m.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: The Interstate 15 (I-15)/Railroad Canyon Road Interchange Project is proposed from post mile 18.3 to post mile 21.0, in the City of Lake Elsinore, in Riverside County. Proposed work includes improvements to I-15/Railroad Canyon Road Interchange and the construction of a new interchange 0.22 mile north of the existing I-15/Franklin Street overcrossing. The actions by the Federal agencies, and the laws under which such actions were taken, are described in the Final Environmental Assessment (EA) for the project, approved on August 25, 2017. The EA, and other project records are available by contacting Caltrans at the addresses provided above. The Caltrans EA can be viewed and downloaded from the project website at http://rctcdev.info/projects/i-15-railroad-canyon-road-and-franklin-interchange-project. This notice applies to all Federal agency decisions as of the issuance date of this notice and all laws under which such actions were taken, including but not limited to:

1. National Environmental Policy Act (NEPA) (42 U.S.C. 4321-4351 et seq.)

2. Council on Environmental Quality Regulations

3. Federal-Aid Highway Act of 1970, 23 U.S.C. 109

4. Map—21, the Moving Ahead of Progress in the 21st Century Act

5. Clean Air Act (42 U.S.C. 7401-7671(q))

6. Migratory Bird Treaty Act (16 U.S.C. 703-712)

7. Historic and Cultural Resources: Section 106 of the National Historic Preservation Act of 1966, as amended (16 U.S.C. 470(f) et seq.)

8. Clean Water Act (Section 401) (33 U.S.C. 1251-1377) of 1977 and 1987 (Federal Water Pollution Control Act of 1972)

9. Federal Endangered Species Act of 1973 (16 U.S.C. 1531-1543)

10. Fish and Wildlife Coordination Act of 1934, as amended

11. Noise Control Act of 1972

12. Executive Order 11990—Protection of Wetlands

13. Executive Order 11988—Floodplains Management

14. Executive Order 13112—Invasive Species

15. Executive Order 12898—Federal Actions To Address Environmental Justice and Low Income Populations

16. Title VI of the Civil Rights Act of 1964, as amended

(Catalog of Federal Domestic Assistance Program Number 20.205, Highway Planning and Construction. The regulations implementing Executive Order 12372 regarding intergovernmental consultation on Federal programs and activities apply to this program.)

Authority: 23 U.S.C. 139(l)(1)

Tashia Clemons,
Director, Program Development, Federal Highway Administration, Sacramento, California.

[FR Doc. 2017-27046 Filed 12-15-17; 8:45 am]

BILLING CODE 4910-RY-P